NUCLEAR REGULATORY COMMISSION

[NRC-2019-0104]

Information Collection: NRC Form 212, Qualifications Investigation, Professional, Technical and Administrative Positions

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, NRC Form 212, Qualifications Investigation, Professional, Technical and Administrative Positions.”

DATES: Submit comments by May 15, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2019-0104 when contacting the NRC about the availability of information for this action. You may obtain publicly-available information related to this action by any of the following methods:

• Federal rulemaking Website: Go to https://www.regulations.gov and search for Docket ID NRC-2019-0104. A copy of the collection of information and related instructions may be obtained without charge by accessing Docket ID NRC-2009-0104 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement and “NRC Form 212, “Qualifications Investigation Professional, Technical, and Administrative Positions”, are available in ADAMS under ML20007E641 and ML19186A402 respectively.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Form 212, “Qualifications Investigation Professional, Technical, and Administrative Positions.” The NRC hereby informs potential respondents that an agency may not conduct or sponsor, and that a person is not required to respond to, a collection of information unless it displays a currently valid OMB control number.

The NRC published a Federal Register notice with a 60-day comment period on this information collection on October 17, 2019 (84 FR 55593).

1. The title of the information collection: NRC Form 212, “Qualifications Investigation Professional, Technical, and Administrative Positions.

2. OMB approval number: 3150-0033.

3. Type of submission: Extension.

4. The form number if applicable: NRC Form 212.

5. How often the collection is required or requested: The form is collected for every new hire to the NRC.

6. Who will be required or asked to respond: Former employers, supervisors, and other references indicated on the job application are asked to complete the NRC Form 212.

7. The estimated number of annual responses: 500.

8. The estimated number of annual respondents: 500.

9. An estimate of the total number of hours needed annually to comply with the information collection requirement or request: 250.

10. Abstract: Information requested on NRC Form 212 is used to determine the qualifications and suitability of applicants for employment in professional, technical, and administrative positions with the NRC. The completed form may be used to examine, rate and/or assess the prospective employee's qualifications. The information regarding the qualifications of applicants for employment is reviewed by professional personnel in OCHCO, in conjunction with other information in the NRC files, to determine the qualifications of the applicant for appointment to the position under consideration.

Dated: April 9, 2020.
For the Nuclear Regulatory Commission.
David C. Cullison,
NRC Clearance Officer, Office of the Chief Information Officer.

[FR Doc. 2020-07904 Filed 4-14-20; 8:45 am]

BILLING CODE 7590-01-P